DEPARTMENT OF HOMELAND SECURITY

National Protection and Programs Directorate; CAPTAP Train the Trainer Survey

AGENCY: National Protection and Programs Directorate.

ACTION: 60-Day notice and request for comments; new information collection request 1670-NEW.

SUMMARY: The Department of Homeland Security, National Protection and Programs Directorate, has submitted the following Information Collection Request (ICR) to the Office of Management and Budget (OMB) for review and clearance in accordance with the Paperwork Reduction Act of 1995 (Pub. L. 104-13, 44 U.S.C. Chapter 35).

DATES: Comments are encouraged and will be accepted until November 13, 2009. This process is conducted in accordance with 5 CFR 1320.1.

ADDRESSES: Written comments and questions about this Information Collection Request should be forwarded to Department of Homeland Security, National Protection and Programs Directorate, Infrastructure Protection, Attn.: Veronica Heller, Team Lead, Planning and Policy Integration, Ballston One, 4601 N. Fairfax Drive 5th Floor, Arlington, Virginia 22203.

SUPPLEMENTARY INFORMATION: The Critical Infrastructure Key Resources (CIKR) Asset Protection Technical Assistance Program (CAPTAP) offers State and local first responders, emergency managers, and other homeland security officials training to develop comprehensive CIKR protection programs in their respective jurisdictions; access to the Constellation/Automated Critical Asset Management System (C/ACAMS) tools for using CIKR asset data, prevention and protection information; and incident response and recovery plans to make their communities safer. To ensure that interested parties appropriately advance this mission, C/ACAMS provides CAPTAP Train-the-Trainer (TTT) sessions to State and local government officials to so that they may then train their colleagues through CAPTAP services. The survey measures customer satisfaction with the training provided through the CAPTAP TTT course. The C/ACAMS Program Management Office (PMO) is administered out of the Infrastructure Information Collection Division (IICD) in the Office of Infrastructure Protection (IP).

The survey data collected is for internal C/ACAMS PMO, IICD and IP use only. The C/ACAMS PMO evaluates the CAPTAP TTT customer survey to determine levels of customer satisfaction with the CAPTAP TTT training and areas in need of improvement. The survey supports data-based decision-making because it evaluates quantitative and qualitative data to identify improvements and identify significant issues based on what customers' experience. Obtaining current fact-based actionable data about the training allows the program to recalibrate its resources to address new or emerging issues.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: CAPTAP Train the Trainer Survey.

Form: Not Applicable.

OMB Number: 1670-NEW.

Frequency: Once.

Affected Public: Federal, State, Local, Tribal.

Number of Respondents: 150.

Estimated Time Per Respondent: 12 minutes.

Total Burden Hours: 30 annual burden hours.

Total Burden Cost (capital/startup): None.

Total Burden Cost (operating/maintaining): None.

Thomas Chase Garwood, III,
Chief Information Officer, National Protection and Programs Directorate, Department of Homeland Security.

[FR Doc. E9-22048 Filed 9-11-09; 8:45 am]

BILLING CODE 9110-9P-P